FEDERAL ELECTION COMMISSION

Sunshine Act Meeting

AGENCY: Federal Election Commission.

OPEN MEETINGS OF: Thursday, October 21, 2004, 10 a.m.; Thursday, October 28, 2004, 10 a.m.

PLACE: 999 E Street, NW., Washington, DC (Ninth Floor).

STATUS: These meetings will be open to the public.

The following item scheduled for the open meeting of Thursday, October 21, 2004, has been rescheduled for the open meeting of Thursday, October 28, 2004: Explanation and Justification for Political Committee Rulemaking.

PERSON TO CONTACT FOR INFORMATION: Robert W. Biersack, Acting Press Officer, Telephone: (202) 694-1220.

Mary W. Dove,
Secretary of the Commission.

[FR Doc. 04-23611 Filed 10-18-04; 3:22 pm]

BILLING CODE 6715-01-M